DEPARTMENT OF COMMERCE

National Oceanic and Atmospheric Administration

RIN 0648-XA467

Endangered Species; File No. 15677

AGENCY: National Marine Fisheries Service (NMFS), National Oceanic and Atmospheric Administration (NOAA), Commerce.

ACTION: Issuance of permit.

SUMMARY: Notice is hereby given that South Carolina Department of Natural Resources (hereinafter “Permit Holder”), P.O. Box 12559 Charleston, SC 29422 [Responsible Party: William C. Post], has been issued a permit to take shortnose sturgeon for purposes of scientific research.

ADDRESSES: The permit and related documents are available for review upon written request or by appointment in the following offices:

• Permits, Conservation and Education Division, Office of Protected Resources, NMFS, 1315 East-West Highway, Room 13705, Silver Spring, MD 20910; phone (301) 713-2289; fax (301) 713-0376; and

• Southeast Region, NMFS, 263 13th Avenue South, Saint Petersburg, Florida 33701; phone (727) 824-5312; fax (727) 824-5309.

FOR FURTHER INFORMATION CONTACT: Malcolm Mohead or Colette Cairns, (301) 713-2289.

SUPPLEMENTARY INFORMATION: On November 30, 2010, notice was published in the Federal Register (75 FR 74003) that a scientific research permit to take shortnose sturgeon had been submitted by the above-named organization. The requested permit has been issued under the authority of the Endangered Species Act of 1973, as amended (ESA; 16 U.S.C. 1531 et seq.) and the regulations governing the taking, importing, and exporting of endangered and threatened species (50 CFR parts 222-226).

The South Carolina Department of Natural Resources (SCDNR) is authorized to conduct a five-year scientific study assessing the presence, abundance, and distribution of shortnose sturgeon in South Carolina waters (Savannah, ACE Basin, including the Ashepoo, Combabee and Edisto Rivers, Cooper, and Santee Rivers, Lake Marion and its tributaries, and the Winyah Bay system, including the Black, Waccamaw, Sampit, Little Pee Dee and Great Pee Dee Rivers), each to the first impassible dam. The SCDNR will also specifically assess shortnose sturgeon usage of the upper Santee River Basin (Wateree, Saluda, and Congaree Rivers) as part of two Federal Energy Regulatory Commission (FERC) relicensing projects: the Duke Energy Catawba Wateree and the SCANA Services Saluda Hydroelectric Projects.

Issuance of this permit, as required by the ESA, was based on a finding that such permit (1) Was applied for in good faith, (2) will not operate to the disadvantage of such endangered or threatened species, and (3) is consistent with the purposes and policies set forth in section 2 of the ESA.

Dated: May 27, 2011.
Tammy C. Adams,
Acting Chief, Permits, Conservation and Education Division, Office of Protected Resources, National Marine Fisheries Service.

[FR Doc. 2011-13842 Filed 6-2-11; 8:45 am]

BILLING CODE 3510-22-P